DEPARTMENT OF HOMELAND SECURITY

U.S. Citizenship and Immigration Services

Agency Information Collection Activities: Extension of a Currently Approved Information Collection; Comment Request

ACTION: 60-day notice of information collection under review: application for T nonimmigrant status; application for immediate family member of T-1 recipient; and declaration of law enforcement officer for victim of trafficking in persons, Forms I-914, I-914 Supplement A, I-914 Supplement B.

The Department of Homeland Security, U.S. Citizenship and Immigration Services (USCIS) has submitted an emergency information collection for review and clearance in accordance with the Paperwork Reduction Act of 1995. The information collection is published to obtain comments from the public and affected agencies. Comments are encouraged and will be accepted for sixty days until August 15, 2005.

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved information collection.

(2) Title of the Form/Collection: Application for T Nonimmigrant Status; Application for Immediate Family Member of T-1 Recipient; and Declaration of Law Enforcement Officer for Victim of Trafficking in Persons.

(3) Agency form number, if any, and the applicable component of the Department of Homeland Security sponsoring the collection: Forms I-914, I-914 Supplement A, and I-914 Supplement B. U.S. Citizenship and Immigration Services.

(4) Affected public who will be asked or required to respond, as well as a brief abstract: Primary: Individuals and Households. This application incorporates information pertinent to eligibility under the Victims of Trafficking and Violence Protection Act of 2000 (Pub. L. 106-386) and a request for employment. The information on all three parts of the form will be used by the USCIS to determine whether applicants meet the eligibility requirements for certain immigration benefits.

(5) An estimate of the total number of respondents and the amount of time estimated for an average respondent to respond: 8,750 I-914 responses at 2.25 hours per response; 18,750 I-914 Supplement A responses at 1 hour per response; and 7,000 I-914 Supplement B responses at .50 hours per response.

(6) An estimate of the total public burden (in hours) associated with the collection: 41,938 annual burden hours.

If you have additional comments, suggestions, or need a copy of the information collection instrument, please contact Mr. Richard A. Sloan, Director, Regulatory Management Division, U.S. Citizenship and Immigration Services, 111 Massachusetts Avenue, NW., Washington, DC 20529; 202-272-8377.

Dated: June 10, 2005.
Richard A. Sloan,
Director, Regulatory Management Division, U.S. Citizenship and Immigration Services.

[FR Doc. 05-11813 Filed 6-14-05; 8:45 am]

BILLING CODE 4410-10-M